DEPARTMENT OF LABOR

Occupational Safety and Health Administration

[Docket No. OSHA-2017-0008]

California State Plan; New Operational Status Agreement

AGENCY: Occupational Safety and Health Administration, Department of Labor.

ACTION: Notice.

SUMMARY: This document announces a new Operational Status Agreement between the Occupational Safety and Health Administration (OSHA) and the California State Plan, which specifies the respective areas of federal and state authority, and which clarifies California's coverage over maritime employment and OSHA's coverage over private employers on military installations and federal parks, and under which OSHA gains coverage over private and tribal employers on U.S. Government-recognized Native American reservations and trust lands.

DATES: Effective June 2, 2017.

FOR FURTHER INFORMATION CONTACT: For press inquiries: Francis Meilinger, OSHA Office of Communications, Room N-3647, U.S. Department of Labor, 200 Constitution Avenue NW., Washington, DC 20210; telephone (202) 693-1999; email: meilinger.francis2@dol.gov.

For general and technical information: Douglas J. Kalinowski, Director, OSHA Directorate of Cooperative and State Programs, Room N-3700, U.S. Department of Labor, 200 Constitution Avenue NW., Washington, DC 20210; telephone: (202) 693-2200; email: kalinowski.doug@dol.gov.

SUPPLEMENTARY INFORMATION: The California State Plan (Cal/OSHA) administers an OSHA-approved State Plan to develop and enforce occupational safety and health standards for private-sector and state and local government employers pursuant to the provisions of section 18 of the Occupational Safety and Health Act (the Act), 29 U.S.C. 667. The California State Plan received initial federal OSHA plan approval on May 1, 1973 (38 FR 10719) and the Division of Occupational Safety and Health of the California Department of Industrial Relations is designated as the state agency responsible for administering the State Plan. On October 3, 1989, an Operational Status Agreement was entered into between OSHA and Cal/OSHA whereby concurrent federal enforcement authority was suspended with regard to federal occupational safety and health standards in issues covered by the State Plan. Federal OSHA retained its authority over occupational safety and health with regard to federal government employers and employees, and employees of the U.S. Postal Service (effective June 9, 2000). OSHA also retained its authority over private-sector maritime employment on the navigable waters of the United States; private-sector contractors on federal installations; whistleblower complaints under Section 11(c) of the Act; emergency temporary standards; and employers manufacturing explosives for the U.S. Department of Defense. Notice of this OSA was published in the Federal Register on July 12, 1990 (55 FR 28613), and there were subsequent minor amendments to the OSA. That 1990 Federal Register Notice contained a full history of the California State Plan.

Notice of New Operational Status Agreement

OSHA and Cal/OSHA signed a new OSA on April 30, 2014, which replaced the prior 1989 OSA. This new OSA clarified that concurrent federal enforcement authority would not be initiated with regard to any federal occupational safety and health standards in issues covered by the State Plan. Under the 2014 OSA, Federal OSHA retained coverage over all Federal employees and sites (including the United States Postal Service (USPS), USPS contract employees, and contractor-operated facilities engaged in USPS mail operations). The OSA also clarified that federal OSHA has enforcement authority over private-sector employers within the borders of all military installations and within U.S. National Parks, National Monuments, National Memorials, and National Recreational Areas in California. Further, OSHA gained enforcement authority over private-sector and tribal employers within U.S. Government-recognized Native American reservations and trust lands. Under the 2014 OSA, Federal OSHA retained authority over maritime employment (except marine construction on bridges and on shore) on the navigable waters of the United States and over whistleblower complaints under Section 11(c) of the Act. The 2014 OSA also did not contain the language from the 1989 OSA about specific elements of the Cal/OSHA program that had achieved operational status.

Federal OSHA and Cal/OSHA will exercise their respective enforcement authority according to the terms of the 2014 OSA between OSHA and Cal/OSHA. All terms of the 2014 OSA remain in effect. Additional information about this OSA is available at https://www.osha.gov/dcsp/osp/stateprogs/california.html.

Authority and Signature

Dorothy Dougherty, Assistant Secretary of Labor for Occupational Safety and Health, U.S. Department of Labor, authorized the preparation of this notice. OSHA is issuing this notice under the authority specified by section 18 of the Occupational Safety and Health Act of 1970 (29 U.S.C. 667), Secretary of Labor's Order No. 1-2012 (76 FR 3912), and 29 CFR part 1902 and 1953

Signed in Washington, DC, on May 25, 2017.
Dorothy Dougherty,
Assistant Secretary of Labor for Occupational Safety and Health.

[FR Doc. 2017-11422 Filed 6-1-17; 8:45 am]

BILLING CODE 4510-26-P